DEPARTMENT OF THE INTERIOR

Bureau of Land Management

[NV-030-00-1020-24]

Sierra Front-Northwestern Great Basin Resource Advisory Council; Notice of Meeting Location and Time

AGENCY: Bureau of Land Management, Interior.

ACTION: Notice of meeting location and time for the Sierra Front-Northwestern Great Basin Resource Advisory Council (Nevada).

SUMMARY: In accordance with the Federal Land Policy and Management Act and the Federal Advisory Committee Act of 1972 (FACA), the U.S. Department of the Interior, Bureau of Land Management (BLM) Sierra Front-Northwestern Great Basin Resource Advisory Council (RAC), Nevada, will be held as indicated below. Topics for discussion will include a review of the BLM National Off-Highway Vehicle Strategy and local applications to BLM lands in Nevada; an update on wild horse gathers in northern Nevada; review of priority list of land acquisitions proposed as part of the Southern Nevada Public Lands Act; review of management of the Knott Creek Grazing Allotment; preliminary planning for the Winnemucca Resource Management Plan and proposed plan amendments for the Carson City Field Office; and other topics the council may raise.

All meetings are open to the public. The public may present written and/or oral comments to the council at 3 p.m. on Thursday, January 25th. The detailed agenda will be available on the internet by January 16, 2001, at www.nv.blm.gov/rac; hard copies can also be mailed or sent via FAX. Individuals who need special assistance such as sign language interpretation or other reasonable accommodations should contact Mark Struble, Carson City Field Office, 5665 Morgan Mill Road, Carson City, NV 89701, telephone (775) 885-6107 no later than January 16, 2001.

Date & Time: The RAC will meet on Thursday, January 25, 2001, from 9 a.m. to 5 p.m., and Friday, January 26, 2001, from 8 a.m. to 4 p.m., in the first floor conference room of the BLM Nevada State Office, 1340 Financial Blvd., Reno, Nevada. Public comment on individual topics will be received at the discretion of the council chairperson, as meeting moderator, with a general public comment period on Thursday, January 25, 2001, at 3 p.m.

FOR FURTHER INFORMATION CONTACT: Mark Struble, Public Affairs Officer, Carson City Field Office, 5665 Morgan Mill Road, Carson City, NV 89701. Telephone (775) 885-6107.

Dated: December 12, 2000.
John O. Singlaub,
Manager, Carson City Field Office.

[FR Doc. 00-33417 Filed 12-29-00; 8:45 am]

BILLING CODE 4310-HC-P